INTERNATIONAL TRADE COMMISSION

[Investigations Nos. 731-TA-865-867 (Final)]

Certain Stainless Steel Butt-Weld Pipe Fittings From Italy, Malaysia, and the Philippines

Determinations

On the basis of the record ¹ developed in the subject investigations, the United States International Trade Commission determines,² pursuant to section 735(b) of the Tariff Act of 1930 (19 U.S.C. 1673d(b)) (the Act), that an industry in the United States is materially injured by reason of imports of certain stainless steel butt-weld pipe fittings from Italy, Malaysia, and the Philippines, provided for in subheading 7307.23.00 of the Harmonized Tariff Schedule of the United States, that have been found by the Department of Commerce to be sold in the United States at less than fair value (LTFV). The Commission further determines that critical circumstances do not exist with regard to those imports of the subject merchandise from Italy and the Philippines that were subject to affirmative critical circumstances determinations by the Department of Commerce.³

¹ The record is defined in sec. 207.2(f) of the Commission's Rules of Practice and Procedure (19 CFR 207.2(f)).

² Commissioner Dennis M. Devaney not participating.

³ Commissioner Lynn M. Bragg found that critical circumstances exist with regard to those imports of the subject merchandise from Italy and the Philippines that were subject to affirmative critical circumstances determinations by the Department of Commerce.

Background

The Commission instituted these investigations effective December 29, 1999, following receipt of a petition filed with the Commission and the Department of Commerce by Alloy Piping Products, Inc., Shreveport, LA; Flowline Division of Markovitz Enterprises, Inc., New Castle, PA; Gerlin, Inc., Carol Stream, IL; and Taylor Forge Stainless, Inc., North Branch, NJ. The final phase of the investigations involving Italy and the Philippines was scheduled by the Commission following notification of preliminary determinations by the Department of Commerce that imports of certain stainless steel butt-weld pipe fittings from Italy and the Philippines were being sold at LTFV within the meaning of section 733(b) of the Act (19 U.S.C. 1673b(b)). The final phase of the investigation involving Malaysia was scheduled at the same time even though Commerce made a negative preliminary determination in that investigation; Commerce ultimately made an affirmative final determination that imports of certain stainless steel butt-weld pipe fittings from Malaysia were being sold at LTFV within the meaning of section 735(b) of the Act (19 U.S.C. 1673d(b)).

Notice of the scheduling of the Commission's investigations and of a public hearing to be held in connection therewith was given by posting copies of the notice in the Office of the Secretary, U.S. International Trade Commission, Washington, DC, and by publishing the notice in the Federal Register of August 23, 2000 (65 FR 51328). The hearing was held in Washington, DC, on October 17, 2000, and all persons who requested the opportunity were permitted to appear in person or by counsel.

The Commission transmitted its determinations in these investigations to the Secretary of Commerce on January 29, 2001. The views of the Commission are contained in USITC Publication 3387 (January 2001), entitled Certain Stainless Steel Butt-Weld Pipe Fittings from Italy, Malaysia, and the Philippines: Investigations Nos. 731-TA-865-867 (Final).

Issued: January 30, 2001.
By order of the Commission.
Donna R. Koehnke,
Secretary.

[FR Doc. 01-2965 Filed 2-2-01; 8:45 am]

BILLING CODE 7020-02-P